DEPARTMENT OF THE INTERIOR

Fish and Wildlife Service

[FWS-R9-FHC-2010-N275; 94100-1311-0000-N5]

Information Collection Sent to the Office of Management and Budget (OMB) for Approval; OMB Control Number 1018-0078; Injurious Wildlife; Importation Certification for Live Fish and Fish Eggs

AGENCY: Fish and Wildlife Service, Interior.

ACTION: Notice; request for comments.

SUMMARY: We (U.S Fish and Wildlife Service) have sent an Information Collection Request (ICR) to OMB for review and approval. We summarize the ICR below and describe the nature of the collection and the estimated burden and cost. This ICR is scheduled to expire on February 28, 2011. We may not conduct or sponsor and a person is not required to respond to a collection of information unless it displays a currently valid OMB control number. However, under OMB regulations, we may continue to conduct or sponsor this information collection while it is pending at OMB.

DATES: You must submit comments on or before January 24, 2011.

ADDRESSES: Send your comments and suggestions on this information collection to the Desk Officer for the Department of the Interior at OMB-OIRA at (202) 395-5806 (fax) or OIRA_DOCKET@OMB.eop.gov (e-mail). Please provide a copy of your comments to the Service Information Collection Officer, U.S. Fish and Wildlife Service, MS 222-ARLSQ, 4401 North Fairfax Drive, Arlington, VA 22203 (mail), or INFOCOL@fws.gov (e-mail). Please include 1018-0078 in the subject line of your comments.

FOR FURTHER INFORMATION CONTACT: To request additional information about this ICR, contact Dr. Joel Bader, National Coordinator for Aquatic Animal Health, U.S. Fish and Wildlife Service, MS 770, 4401 North Fairfax Drive, Arlington, VA 22203 (mail); or by telephone at (703) 358-2019.

SUPPLEMENTARY INFORMATION: OMB Control Number: 1018-0078.

Title: Injurious Wildlife; Importation Certification for Live Fish and Fish Eggs, 50 CFR 16.13.

Service Form Number(s): 3-2273, 3-2274, and 3-2275.

Type of Request: Extension without change.

Description of Respondents: Aquatic animal health professionals seeking to be certified Title 50 inspectors; certified Title 50 inspectors who have performed health certifications on live salmonids; and any entity wishing to import live salmonids or their reproductive products into the United States.

Respondent's Obligation: Required to obtain or retain a benefit.

Frequency of Collection: On occasion.

Activity | Number of respondents | Number of responses | Completion time per response | Total annual burden hours
FWS Form 3-2273 | 16 | 16 | 1 hour | 16
FWS Form 3-2274 | 25 | 50 | 30 minutes | 25
FWS Form 3-2275 | 25 | 50 | 15 minutes | 13
Total | 66 | 116 |  | 54

Abstract: The Lacey Act (18 U.S.C. 42) (Act) prohibits the possession or importation of any animal or plant deemed to be and prescribed by regulation to be injurious to:

• Human beings;

• The interests of agriculture, horticulture, and forestry; or

• Wildlife or the wildlife resources of the United States.

The Department of the Interior is charged with enforcement of this Act. The Act and regulations at 50 CFR part 16 allow for the importation of animals classified as injurious if specific criteria are met. To effectively carry out responsibilities and protect the aquatic resources of the United States, we must gather information on the animals being imported with regard to their source, destination, and health status. It is also imperative that we ensure the qualifications of those individuals who provide the fish health data upon which we base our decision to allow importation.

We use three forms to collect this information:

(1) FWS Form 3-2273 (Title 50 Certifying Official Form). New applicants and those seeking recertification as a Title 50 certifying official provide information so that we can assess their qualifications.

(2) FWS Form 3-2274 (U.S. Title 50 Certification Form). The certifying official uses this form to affirm the health status of the fish or their reproductive products to be imported.

(3) FWS Form 3-2275 (Title 50 Importation Request Form). We use the information on this form to ensure the safety of the shipment and to track and control importations.

Comments: On October 18, 2010, we published in the Federal Register (75 FR 63849) a notice of our intent to request that OMB renew approval for this information collection. In that notice, we solicited comments for 60 days, ending on December 17, 2010. We did not receive any comments.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: December 20, 2010.
Hope Grey,
Information Collection Clearance Officer, Fish and Wildlife Service.

[FR Doc. 2010-32327 Filed 12-22-10; 8:45 am]

BILLING CODE 4310-55-P